BROADCASTING BOARD OF GOVERNORS

Sunshine Act Meeting Notice

DATE AND TIME: Friday, April 11, 2014, 8:30 a.m.-12:30 p.m. EDT.

PLACE: Cohen Building, Room 3321, 330 Independence Ave. SW., Washington, DC 20237.

SUBJECT: Notice of Meeting of the Broadcasting Board of Governors.

SUMMARY: The Broadcasting Board of Governors (Board) will be meeting at the time and location listed above. The Board will vote on a consent agenda consisting of the minutes of its February 25, 2014 meeting, a resolution for David Burke Distinguished Journalism Awards, a resolution for a Code of Conduct for the Board, an updated policy regarding non-disclosure of deliberative information, and a policy statement on the prohibition of harassment. The Board will discuss and vote on the recommendations of the Board's Special Committee on Internet Anti-Censorship. Finally, the Board will receive a presentation providing an overview of Radio Free Asia and convene a discussion panel on Internet Anti-Censorship efforts.

This meeting will also be available for public observation via streamed webcast, both live and on-demand, on the agency's public Web site at www.bbg.gov. Information regarding this meeting, including any updates or adjustments to its starting time, can also be found on the agency's public Web site.

The public may also attend this meeting in person at the address listed above as seating capacity permits. Member of the public seeking to attend the meeting in person must register at https://bbgboardmeetingapril2014.eventbrite.com by 12 p.m. (EDT) on April 10. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2014-07798 Filed 4-3-14; 11:15 am]

BILLING CODE 8610-01-P